ENVIRONMENTAL PROTECTION AGENCY

40 CFR Part 51

[EPA-HQ-OAR-2008-0462, FRL-9203-5]

RIN 2060-AP30

Rule To Implement the 1997 8-Hour Ozone National Ambient Air Quality Standard: New Source Review Anti-Backsliding Provisions for Former 1-Hour Ozone Standard—Public Hearing Notice

AGENCY: Environmental Protection Agency (EPA).

ACTION: Notice of public hearing.

SUMMARY: The EPA is announcing a public hearing to be held for the proposed “Rule to Implement the 1997 8-Hour Ozone National Ambient Air Quality Standard: New Source Review Anti-Backsliding Provisions for Former 1-Hour Ozone Standard” which published in the Federal Register on August 24, 2010. The hearing will be held on Tuesday, October 12, 2010, in Washington, DC.

DATES: The public hearing will be held on October 12, 2010.

ADDRESSES: The October 12, 2010, hearing will be held at the EPA Ariel Rios North building, Room 1332, 1200 Pennsylvania Avenue, Washington, DC 20460. The public hearing will convene at 9 a.m. (eastern daylight time) and continue until 2 p.m. EPA will accommodate speakers later than 2 p.m. provided they notify us before October 8, 2010. The EPA will make every effort to accommodate all speakers that arrive and register. No lunch break is scheduled. Because this hearing is being held at U.S. government facilities, individuals planning to attend the hearing should be prepared to show valid picture identification to the security staff in order to gain access to the meeting room. In addition, you will need to obtain a property pass for any personal belongings you bring with you. Upon leaving the building, you will be required to return this property pass to the security desk. No large signs will be allowed in the building, cameras may only be used outside of the building, and demonstrations will not be allowed on federal property for security reasons. The EPA Web site for the rulemaking, which includes the proposal and information about the public hearing, can be found at http://www.epa.gov/nsr.

FOR FURTHER INFORMATION CONTACT: If you would like to present oral testimony at the public hearing, please contact Ms. Pamela Long, U.S. Environmental Protection Agency, Office of Air Quality Planning and Standards, Air Quality Planning Division, (C504-03), Research Triangle Park, NC 27711, telephone (919) 541-0641, fax number (919) 541-5509, e-mail address: long.pam@epa.gov (preferred method for registering), no later than 2 business days prior to the public hearing. The last day to register will be October 8, 2010. If using e-mail, please provide the following information: Time you wish to speak (morning, afternoon), name, affiliation, address, e-mail address, and telephone and fax numbers.

Questions concerning the August 24, 2010 (75 FR 51960), proposed rule should be addressed to Mr. David Painter, U.S. EPA, Office of Air Quality Planning and Standards, New Source Review Group, (C504-03), Research Triangle Park, NC 27711, telephone number (919) 541-5515, e-mail at painter.david@epa.gov.

SUPPLEMENTARY INFORMATION: The public hearing is to provide the public with an opportunity to present oral comments regarding EPA's proposed action to clarify the obligation to retain 1-hour nonattainment new source review (NSR) program requirements for certain areas designated nonattainment for the 1997 8-hour ozone national ambient air quality standard (NAAQS). The EPA has proposed to revise the rule for implementing the 1997 8-hour ozone NAAQS to address how NSR requirements that applied by virtue of the area's 1-hour ozone NAAQS classification should apply under the anti-backsliding provisions of the 1997 8-hour implementation rule. The proposed rule responds to the ruling by the U.S. Court of Appeals for the District of Columbia Circuit that the 1-hour major NSR program, as it applies to areas that were designated 1-hour nonattainment on the date of designation for the 1997 8-hour NAAQS, is a required control to prevent backsliding.

Public hearing: The proposal for which EPA is holding the public hearing was published in the Federal Register on August 24, 2010 (75 FR 51960), and is available at http://www.epa.gov/nsr and also available in the docket identified below. The public hearing will provide interested parties the opportunity to present data, views, or arguments concerning the proposal. The EPA may ask clarifying questions during the oral presentations, but will not respond to comments or issues raised in the presentations at that time. Written statements and supporting information submitted during the comment period will be considered with the same weight as any oral comments and supporting information presented at the public hearing. Written comments on the proposed rule must be postmarked by October 1, 2010, which is the closing date for the comment period, as specified in the proposal for the rule. However, the record will remain open until November 13, 2010, to allow 30 days after the public hearing for submittal of additional information related to the hearing.

The hearing schedule, including a list of speakers, will be posted on EPA's Web site: http://www.epa.gov/nsr. Verbatim transcripts of the hearings and written statements will be included in the docket for the rulemaking.

The EPA will make every effort to follow the schedule as closely as possible on the day of the hearings; however, please plan for the hearing to run either ahead of schedule or behind schedule.

How can I get copies of this document and other related information?

The EPA has established a docket for the “Proposed Rule to Implement the 1997 8-Hour Ozone National Ambient Air Quality Standard: New Source Review Anti-Backsliding Provisions for Former 1-Hour Ozone Standard” under Docket ID No. EPA-HQ-OAR-2008-0462 (available at http://www.regulations.gov).

As stated previously, the proposed rule was published in the Federal Register on August 24, 2010, and is available at http://www.epa.gov/nsr and in the previously cited docket.

Dated: September 14, 2010.
Mary Henigin,
Acting Director, Office of Air Quality Planning and Standards.

[FR Doc. 2010-23398 Filed 9-17-10; 8:45 am]

BILLING CODE 6560-50-P